DEPARTMENT OF TRANSPORTATION

Federal Aviation Administration

14 CFR Part 121

[Docket No.: FAA-2004-19835: Amendment No. 61-114, 63-34, 65-47, 67-19, 91-291, 121-325, 135-105]

RIN 2120-AH82

Disqualification for Airman and Airman Medical Certificate Holders Based on Alcohol Violations or Refusals to Submit to Drug and Alcohol Testing; Correction

AGENCY: Federal Aviation Administration (FAA), DOT.

ACTION: Final rule; correction.

SUMMARY: This document makes a correction to the final rule published in the Federal Register on June 21, 2006 (71 FR 35760). That rule changed the airman medical certification standards to disqualify an airman based on an alcohol test result of 0.04 or greater breath alcohol concentration (BAC) or a refusal to take a drug or alcohol test required by the Department of Transportation (DOT) or a DOT agency.

DATES: These amendments become effective July 21, 2006.

FOR FURTHER INFORMATION CONTACT: Sherry M. de Vries, (202) 267-8693.

Correction

In the final rule FR Doc. E6-9814, on page 35765, correct the second paragraph from the bottom of the second column to read as follows:

Appendix J to Part 121 [Corrected]

22. Amend section V of Appendix J to Part 121 by revising paragraph D.1 to read as follows and removing and reserving paragraph D.2:

D. Notice of Refusals

1. Each covered employer must notify the FAA within 2 working days of any employee who holds a certificate issued under part 61, part 63, or part 65 of this chapter who has refused to submit to a drug test required under this appendix. Notification must be sent to: Federal Aviation Administration, Office of Aerospace Medicine, Drug Abatement Division (AAM-800), 800 Independence Avenue, SW., Washington, DC 20591, or by fax to (202) 267-5200.

* * * * *

Issued in Washington, DC, on June 30, 2006.
Brenda D. Courtney,
Acting Director, Office of Rulemaking.

[FR Doc. E6-10588 Filed 7-6-06; 8:45 am]

BILLING CODE 4910-13-P